FEDERAL MEDIATION AND CONCILIATION SERVICE

Notice of FMCS Guidance Document Portal

AGENCY: Federal Mediation and Conciliation Service (FMCS).

ACTION: Notice of availability.

SUMMARY: Memorandum for Regulatory Policy Officer at Executive Departments and Agencies and Managing and Executive Directors of Certain Agencies and Commissions (OMB Memorandum M-20-02), the Federal Mediation and Conciliation Service (FMCS) is providing notice of the availability of a single, searchable, indexed database, containing all of FMCS's guidance documents currently in effect.

DATES: Applicable as of February 28, 2020.

FOR FURTHER INFORMATION CONTACT: Sarah Cudahy, General Counsel, FMCS, 250 E St. SW, Washington, DC 20427, scudahy@fmcs.gov, guidancedocuments@fmcs.gov, 202-606-8090.

SUPPLEMENTARY INFORMATION: Section 3 of Executive Order 13891 requires federal agencies to “establish or maintain on its website a single, searchable, indexed database that contains or links to all guidance documents in effect from such agency or component.” Executive Order 13891, 84 FR 55, 235 (October 9, 2019). OMB Memorandum M-20-02 further requires agencies to “send to the Federal Register a notice announcing the existence of the new guidance portal and explaining that all guidance documents remaining in effect are contained on the new guidance portal.” OMB Memorandum M-20-02, page 1 (October 31, 2019).

In compliance with the above, the Federal Mediation and Conciliation Service (FMCS) is noticing the availability of a single, searchable, indexed database for FMCS containing all FMCS guidance documents currently in effect, which may be accessed at https://www.fmcs.gov/guidance-portal/.

Sarah Cudahy,
General Counsel.

[FR Doc. 2020-04261 Filed 3-2-20; 8:45 am]

BILLING CODE P